Title 3—

The President

Proclamation 8806 of May 1, 2012

Asian American and Pacific Islander Heritage Month, 2012

By the President of the United States of America

A Proclamation

Generations of Asian Americans and Pacific Islanders (AAPIs) have helped make America what it is today. Their histories recall bitter hardships and proud accomplishments—from the laborers who connected our coasts one-and-a-half centuries ago, to the patriots who fought overseas while their families were interned at home, from those who endured the harsh conditions of Angel Island, to the innovators and entrepreneurs who are driving our Nation’s economic growth in Silicon Valley and beyond. Asian American and Pacific Islander Heritage Month offers us an opportunity to celebrate the vast contributions Asian Americans and Pacific Islanders have made to our Nation, reflect on the challenges still faced by AAPI communities, and recommit to making the American dream a reality for all.

Asian Americans and Pacific Islanders comprise many ethnicities and languages, and their myriad achievements embody the American experience. Asian Americans and Pacific Islanders have started businesses, including some of our Nation’s most successful and dynamic enterprises. AAPI men and women are leaders in every aspect of American life—in government and industry, science and medicine, the arts and our Armed Forces, education and sports.

Yet, while we celebrate these successes, we must remember that too often Asian American and Pacific Islanders face significant adversity. Many AAPI communities continue to fight prejudice and struggle to overcome disparities in education, employment, housing, and health care. My Administration remains committed to addressing these unique challenges. Through the White House Initiative on Asian Americans and Pacific Islanders, we are working to expand opportunities for AAPI communities by improving access to Federal programs where Asian American and Pacific Islanders are currently underserved. To learn more about the Initiative, visit www.WhiteHouse.gov/AAPI.

As we also take this occasion to reflect on our past, we mark 70 years since the Executive Order that authorized the internment of Japanese-Americans during World War II. Last month, I announced my intent to posthumously award the Presidential Medal of Freedom—the country’s highest civilian honor—to Gordon Hirabayashi, who openly defied this forced relocation, and bravely took his challenge all the way to the United States Supreme Court.

This year, we also commemorate the 100th anniversary of the first Japanese cherry blossom trees planted in Washington, D.C., an enduring symbol of the friendship shared between the United States and Japan and a reminder of America’s standing as a Pacific nation. Over the centuries, we have maintained a long, rich history of engagement in the Asia-Pacific region, and our AAPI communities have been essential to strengthening the economic, political, and social bonds we share with our partners around the world.

This month, we reflect on the indelible ways AAPI communities have shaped our national life. As we celebrate centuries of trial and triumph, let us rededicate ourselves to making our Nation a place that welcomes the contributions of all people, all colors, and all creeds, and ensures the American dream is within reach for all who seek it.

NOW, THEREFORE, I, BARACK OBAMA, President of the United States of America, by virtue of the authority vested in me by the Constitution and the laws of the United States, do hereby proclaim May 2012 as Asian American and Pacific Islander Heritage Month. I call upon all Americans to visit www.AsianPacificHeritage.gov to learn more about the history of Asian Americans and Pacific Islanders, and to observe this month with appropriate programs and activities.

IN WITNESS WHEREOF, I have hereunto set my hand this first day of May, in the year of our Lord two thousand twelve, and of the Independence of the United States of America the two hundred and thirty-sixth.

[FR Doc. 2012-11011

Filed 5-3-12; 2:00 pm]

Billing code 3295-F2-P